DEPARTMENT OF EDUCATION

[Docket No.: ED-2023-SCC-0157]

Agency Information Collection Activities; Submission to the Office of Management and Budget for Review and Approval; Comment Request; 2020/25 Beginning Postsecondary Students (BPS:20/25) Field Test

AGENCY: National Center for Educational Sciences (NCES), Department of Education (ED).

ACTION: Notice.

SUMMARY: In accordance with the Paperwork Reduction Act (PRA) of 1995, the Department is proposing a revision of a currently approved information collection request (ICR).

DATES: Interested persons are invited to submit comments on or before December 28, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2020/25 Beginning Postsecondary Students (BPS:20/25) Field Test.

OMB Control Number: 1850-0631.

Type of Review: Revision of a currently approved ICR.

Respondents/Affected Public: Individuals or households.

Total Estimated Number of Annual Responses: 6,927.

Total Estimated Number of Annual Burden Hours: 1,279.

Abstract: The 2020/25 Beginning Postsecondary Students Full-Scale (BPS:20/25) is conducted by the National Center for Education Statistics, part of the Institute of Education Sciences, within the Department of Education, and is part of the Beginning Postsecondary Students Longitudinal Study data collection program at https://nces.ed.gov/surveys/bps/. BPS is designed to follow a cohort of students who enroll in postsecondary education for the first time during the same academic year, irrespective of the date of high school completion. The study collects data on students' persistence in and completion of postsecondary education programs; their transition to employment; demographic characteristics; and changes over time in their goals, marital status, income, and debt, among other indicators. Data from BPS are used to help researchers and policymakers better understand how financial aid influences persistence and completion, what percentages of students complete various degree programs, what are the early employment and wage outcomes for certificate and degree attainers, and why students leave school.

The BPS:20/25 field test will include approximately 3,280 students who first began in the 2018-19 academic year. BPS:20/25 will be a nationally-representative sample of approximately 34,240 students who were first-time beginning students during the 2019-20 academic year. These students will be asked to complete a survey and administrative data will also be collected for them. Administrative data matching will be conducted with sources including the National Student Loan Data System (NSLDS), containing Federal loan and grant files; the Central Processing System (CPS), which houses and processes data contained in the Free Application for Federal Student Aid (FAFSA) forms; the National Student Clearinghouse (NSC) which provides enrollment and degree verification; vendors of national undergraduate, graduate, and professional student admission tests; and possible other administrative data sources such as the Veterans Benefits Administration (VBA). These data will be obtained through file matching/downloading.

This submission is designed to adequately justify the need for and overall practical utility of the full study, presenting the overarching plan for all phases of the data collection and providing as much detail about the measures to be used as is available at the time of this submission. As part of this submission, NCES will publish a notice in the Federal Register allowing first a 60- and then a 30-day public comment period. Field test materials, procedures, and results will inform the full-scale study. After completion of the field test, NCES will publish a notice in the Federal Register allowing an additional 30-day public comment period on the final details and materials of the BPS:20/25 full-scale study.

Dated: November 22, 2023.
Stephanie Valentine,
PRA Coordinator, Strategic Collections and Clearance, Governance and Strategy Division, Office of Chief Data Officer, Office of Planning, Evaluation and Policy Development.

[FR Doc. 2023-26215 Filed 11-27-23; 8:45 am]

BILLING CODE 4000-01-P